DEPARTMENT OF JUSTICE

Drug Enforcement Administration

[Docket No. DEA-392]

Importer of Controlled Substances Application: Catalent Pharma Solutions, LLC

ACTION: Notice of application.

DATES: Registered bulk manufacturers of the affected basic classes, and applicants therefore, may file written comments on or objections to the issuance of the proposed registration on or before August 29, 2019. Such persons may also file a written request for a hearing on the application on or before August 29, 2019.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on May 31, 2019, Catalent Pharma Solutions, LLC, 3031 Red Lion Road, Philadelphia, Pennsylvania 19114 applied to be registered as an importer of the following basic class of controlled substance:

Controlled substance | Drug code | Schedule
Gamma Hydroxybutyric Acid | 2010 | I

The company plans to import finished dosage unit products containing gamma-hydroxybutyric acid for clinical trials, research, and analytical activities.

Dated: July 16, 2019.
John J. Martin,
Assistant Administrator.

[FR Doc. 2019-16166 Filed 7-29-19; 8:45 am]

BILLING CODE 4410-09-P